DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing an update to the identifying information of one person currently included on OFAC's Specially Designated Nationals and Blocked Persons List (SDN List).

DATES: See Supplementary Information section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://ofac.treasury.gov/).

Notice of OFAC Action(s)

On July 28, 2023, OFAC updated the entry on the SDN List for the following person, whose property and interests in property subject to U.S. jurisdiction continue to be blocked under the relevant sanctions authority listed below.

Entity

1. TABACOS USA INC., 4500 William Penn Highway, Easton, PA 18045, United States; 3815 Bethman Road, Easton, PA 18045, United States; Organization Established Date 08 Jun 2004; Business Registration Number 3811964 (Delaware) (United States); alt. Business Registration Number 0101044929 (New Jersey) (United States); alt. Business Registration Number 0005657373 (North Dakota) (United States); alt. Business Registration Number 3331739 (Pennsylvania) (United States); alt. Business Registration Number 7686966-0143 (Utah) (United States); alt. Business Registration Number 270084 (West Virginia) (United States) [GLOMAG].

-to-

TABACOS USA INC., 4500 William Penn Highway, Easton, PA 18045, United States; Organization Established Date 08 Jun 2004; Business Registration Number 3811964 (Delaware) (United States); alt. Business Registration Number 0101044929 (New Jersey) (United States); alt. Business Registration Number 0005657373 (North Dakota) (United States); alt. Business Registration Number 3331739 (Pennsylvania) (United States); alt. Business Registration Number 7686966-0143 (Utah) (United States); alt. Business Registration Number 270084 (West Virginia) (United States) [GLOMAG].

Designated pursuant to section 1(a)(iii)(B) of Executive Order 13818 of December 20, 2017, “Blocking the Property of Persons Involved in Serious Human Rights Abuse or Corruption,” 82 FR 60839 (Dec. 26, 2017) (E.O. 13818) for being owned or controlled by, or having acted or purported to act for or on behalf of, directly or indirectly, CARTES JARA, Horacio Manuel, a person whose property and interests in property are blocked pursuant to E.O. 13818.

Dated: July 28, 2023.
Andrea Gacki,
Director, Office of Foreign Assets Control, U.S. Department of the Treasury.

[FR Doc. 2023-16602 Filed 8-2-23; 8:45 am]

BILLING CODE 4810-AL-P